DEPARTMENT OF LABOR

Employment and Training Administration

[TA-W-58,939]

Kmart; Rainbow City, AL; Dismissal of Application for Reconsideration

Pursuant to 29 CFR 90.18(C) an application for administrative reconsideration was filed with the Director of the Division of Trade Adjustment Assistance for workers at Kmart, Rainbow City, Alabama. The application did not contain new information supporting a conclusion that the determination was erroneous, and also did not provide a justification for reconsideration of the determination that was based on either mistaken facts or a misinterpretation of facts or of the law. Therefore, dismissal of the application was issued.

TA-W-58,939; Kmart, Rainbow City, Alabama (May 31, 2006)

Signed at Washington, DC, this 1st day of June 2006.
Erica R. Cantor,
Director, Division of Trade Adjustment Assistance.

[FR Doc. E6-9014 Filed 6-8-06; 8:45 am]

BILLING CODE 4510-30-P